DEPARTMENT OF ENERGY

Federal Energy Regulatory Commission

[Docket Nos. RM12-17-000; RM01-5-000]

Revisions to Procedural Regulations Governing Transportation by Intrastate Pipelines; Electronic Tariff Filings; Notice of Changes to Etariff Type of Filing Codes

Order No. 781, effective September 30, 2013, provides optional notice procedures for processing rate filings by those natural gas pipelines that fall under the Commission's jurisdiction pursuant to the Natural Gas Policy Act of 1978 or the Natural Gas Act.¹ Take notice that, effective November 12, 2013, the list of available eTariff Type of Filing Codes (TOFC) will be modified.²

¹ Revisions to Procedural Regulations Governing Transportation by Intrastate Pipelines, 144 FERC ¶ 61,034 (2013) (Order No. 781).

² The type of filing business process categories are described in the Implementation Guide for Electronic Filing of Parts 35, 154, 284, 300, and 341 Tariff Filings (August 12, 2013), found on the Commission's Web site, http://www.ferc.gov/docs-filing/etariff/implementation-guide.pdf.

For more information, contact James Sarikas, Office of Energy Market Regulation at (202) 502-6831 or send an email to FERConline@ferc.gov.

Dated: October 11, 2013.
Nathaniel J. Davis, Sr.,
Deputy Secretary.

[FR Doc. 2013-24520 Filed 10-18-13; 8:45 am]

BILLING CODE 6717-01-P